DEPARTMENT OF TRANSPORTATION

Federal Aviation Administration

14 CFR Part 39

[Docket No. FAA-2006-23785; Directorate Identifier 2006-CE-10-AD; Amendment 39-14681; AD 2006-15-01]

RIN 2120-AA64

Airworthiness Directives; Twin Commander Aircraft Corporation Models 690, 690A, and 690B Airplanes

AGENCY: Federal Aviation Administration (FAA), Department of Transportation (DOT).

ACTION: Final rule.

SUMMARY: We are adopting a new airworthiness directive (AD) for all Twin Commander Aircraft Corporation (Twin Commander) Models 690, 690A, and 690B airplanes. This AD requires you to inspect, visually and using fluorescent dye penetrant, the support structures for the inboard and center aileron hinge fittings on both wings for cracks and replace any cracked support structure. This AD requires you to reinforce the support structures for the inboard and center aileron hinge fittings on both wings. This AD results from reports that cracks were found in the support structures for the inboard and center aileron hinge fittings on both wings. We are issuing this AD to detect and correct cracks in the support structures for the inboard and center aileron hinge fittings on both wings, which could result in aileron failure. This failure could lead to reduced controllability or loss of control of the airplane.

DATES: This AD becomes effective on August 21, 2006.

As of August 21, 2006, the Director of the Federal Register approved the incorporation by reference of certain publications listed in the regulation.

ADDRESSES: For service information identified in this AD, contact Twin Commander Aircraft LLC, 19010 59th Drive Northeast, Arlington, Washington 98223, telephone: (360) 435-9797; facsimile: (360) 435-1112.

To view the AD docket, go to the Docket Management Facility, U.S. Department of Transportation, 400 Seventh Street, SW., Nassif Building, Room PL-401, Washington, DC 20590-001 or on the Internet at http://dms.dot.gov. The docket number is FAA-2006-23785; Directorate Identifier 2006-CE-10-AD.

FOR FURTHER INFORMATION CONTACT: Vince Massey, Aerospace Engineer, FAA, Seattle Aircraft Certification Office, 1601 Lind Avenue, SW., Renton, WA 98057; telephone: (425) 917-6475; facsimile: (425) 917-6590.

SUPPLEMENTARY INFORMATION:

Discussion

On March 10, 2006, we issued a proposal to amend part 39 of the Federal Aviation Regulations (14 CFR part 39) to include an AD that would apply to all Twin Commander Models 690, 690A, and 690B, airplanes. This proposal was published in the Federal Register as a notice of proposed rulemaking (NPRM) on March 16, 2006 (71 FR 13558). The NPRM proposed to require you to inspect, visually and using fluorescent dye penetrant, the support structures for the inboard and center aileron hinge fittings on both wings for cracks and replace any cracked support structure. The NPRM proposed to require you to reinforce the support structures for the inboard and center aileron hinge fittings on both wings.

Comments

We provided the public the opportunity to participate in developing this AD. We received no comments on the proposal or on the determination of the cost to the public.

Conclusion

We have carefully reviewed the available data and determined that air safety and the public interest require adopting the AD as proposed except for minor editorial corrections. We have determined that these minor corrections.

• Are consistent with the intent that was proposed in the NPRM for correcting the unsafe condition; and

• Do not add any additional burden upon the public than was already proposed in the NPRM.

Costs of Compliance

We estimate that this AD affects 275 airplanes in the U.S. registry.

We estimate the following costs to do the inspection of the support structures of the inboard aileron hinge fittings on both wings:

Labor cost | Parts cost | Total cost for each airplane | Total cost on U.S. operators
10 work-hours × $80 an hour = $800 | Not applicable | $800 | $800 × 275 = $220,000

We estimate the following costs to do the inspection of the support structure of the center aileron hinge fittings on both wings:

Labor cost | Parts cost | Total cost for each airplane | Total cost on U.S. operators
12 work-hours × $80 an hour = $960 | Not applicable | $960 | $960 × 275 = $264,000

We estimate the following costs to do the reinforcement to the support structures on the inboard aileron hinge fittings on both wings:

Labor cost | Parts cost | Total cost for each airplane | Total cost on U.S. operators
25 work-hours × $80 an hour = $2,000 | $1,526 | $2,000 + $1,526 = $3,526 | $3,526 × 275 = $969,650

We estimate the following costs to do the reinforcement of the support structure of the center aileron hinge fittings on both wings:

Labor cost | Parts cost | Total cost for each airplane | Total cost on U.S. operators
50 work-hours × $80 an hour = $4,000 | $551 | $4,000 + $551 = $4,551 | $4,551 × 275 = $1,251,525

We estimate the following costs to do any replacements of the support structures for the inboard aileron hinge fittings on both wings that may be required based on the results of the inspection. We have no way of determining the numb er of airplanes that may need this replacement:

Labor cost | Parts cost | Total cost for each airplane
62 work-hours × $80 an hour = $4,960 | $2,320 | $4,960 + $2,320 = $7,280

We estimate the following costs to do any replacements of support structure for the center aileron hinge fittings on both wings that may be required based on the results of the inspection. We have no way of determining the number of airplanes that may need this replacement.

Labor cost | Parts cost | Total cost for each airplane
176 work-hours × $80 an hour = $14,080 | $3,330 | $14,080 + $3,330 = $17,410

Authority for This Rulemaking

Title 49 of the United States Code specifies the FAA's authority to issue rules on aviation safety. Subtitle I, Section 106 describes the authority of the FAA Administrator. Subtitle VII, Aviation programs, describes in more detail the scope of the agency's authority.

We are issuing this rulemaking under the authority described in Subtitle VII, Part A, Subpart III, Section 44701, “General requirement.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-23785; Directorate Identifier 2006-CE-10-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 3913 by adding the following new AD:

2006-15-01 Twin Commander Aircraft Corporation: Amendment 39-14681; Docket No. FAA-2006-23785; Directorate Identifier 2006-CE-10-AD.

Effective Date

(a) This AD becomes effective on August 21, 2006.

Affected ADs

(b) None.

Applicability

(c) This AD affects Models 690, 690A, and 690B airplanes, all serial numbers, that are certificated in any category.

Unsafe Condition

(d) This AD results from reports of cracks found in the support structures for the inboard and center aileron hinge fittings on both wings. The actions specified in this AD are intended to detect and correct cracks in the support structures for the inboard and center aileron hinge fittings on both wings, which could result in aileron failure. This failure could lead to reduced controllability or loss of control of the airplane.

Compliance

(e) To address this problem, you must do the following:

Actions | Compliance | Procedures
(1) Inspect, visually and using fluorescent dye penetrant, the support structures for the inboard and center aileron hinge fittings on both wings for cracks | Within the next 150 hours time-in-service or 12 months after August 21, 2006 (the effective date of this AD), whichever occurs first | Follow Twin Commander Aircraft LLC Alert Service Bulletin 236A and Alert Service Bulletin 238, both dated December 21, 2004, as applicable.
(2) If you do not find cracks during the inspection required in paragraph (e)(1) of this AD, reinforce the support structures for the inboard and center aileron hinge fittings on both wings that are crack free | Before further flight after the inspection required in paragraph (e)(1) of this AD. After doing the reinforcement, no further action is required | Follow Twin Commander Aircraft LLC Alert Service Bulletin 236A and Alert Service Bulletin 238, both dated December 21, 2004, as applicable.
(3) If you find cracks during the inspection required in paragraph (e)(1) of this AD, replace and reinforce the cracked support structure | Before further flight after the inspection required in paragraph (e)(1) of this AD. After doing the replacement and reinforcement, no further action is required | Follow Twin Commander Aircraft LLC Alert Service Bulletin 236A and Alert Service Bulletin 238, both dated December 21, 2004, as applicable.

Alternative Methods of Compliance (AMOCs)

(f) The Manager, Seattle Aircraft Certification Office (ACO), FAA, ATTN: Vince Massey, Aerospace Engineer, Seattle, ACO, 1601 Lind Avenue SW., Renton, WA 98057; telephone: (425) 917-6475; facsimile: (425) 917-6590, has the authority to approve AMOCs for this AD, if requested using the procedures found in 14 CFR 39.19.

Material Incorporated by Reference

(g) You must do the actions required by this AD following Twin Commander Aircraft LLC Alert Service Bulletin 236A and Twin Commander Aircraft LLC Alert Service Bulletin 238, both dated December 21, 2004. The Director of the Federal Register approved the incorporation by reference of these service bulletins in accordance with 5 U.S.C. 552(a) and 1 CFR part 51. To get a copy of this service information, contact Twin Commander Aircraft LLC, 19010 59th Drive NE., Arlington, WA 98223, telephone: (360) 435-9797; facsimile: (360) 435-1112. To review copies of this service information, go to the National Archives and Records Administration (NARA). For information on the availability of this material at NARA, go to: http://www.archives.gov/federal_register/code_of_federal_regulations/ibr_locations.html or call (202) 741-6030. To view the AD docket, go to the Docket Management Facility; US Department of Transportation, 400 Seventh Street, SW., Nassif Building, Room PL-401, Washington, DC 20590-001 or on the Internet at http://dms.dot.gov. The docket number is FAA-2006-23785; Directorate Identifier 2006-CE-10-AD.

Issued in Kansas City, Missouri, on July 7, 2006.
Kim Smith,
Manager, Small Airplane Directorate, Aircraft Certification Service.

[FR Doc. 06-6225 Filed 7-14-06; 8:45 am]

BILLING CODE 4910-13-M